DEPARTMENT OF THE TREASURY

Customs Service

19 CFR 10, 12, 18, 24, 111, 113, 114, 125, 134, 145, 162, 171, and 172

[T.D. 00-57]

RIN 1515-AC01

Petitions for Relief: Seizures, Penalties, and Liquidated Damages; Correction

AGENCY: Customs Service, Treasury.

ACTION: Final rule; correction.

SUMMARY: Customs published in the Federal Register of September 5, 2000, a document that revised the Customs Regulations relating to the filing of petitions in penalty, liquidated damages, and seizure cases. Inadvertently, Appendix C to Part 171 was incorrectly amended. This document corrects the amendment of that Appendix.

EFFECTIVE DATE: November 2, 2000.

FOR FURTHER INFORMATION CONTACT: Jeremy Baskin, Penalties Branch, Office of Regulations and Rulings, (202) 927-2344.

SUPPLEMENTARY INFORMATION:

Background

On September 5, 2000, Customs published in the Federal Register (65 FR 53565) T.D. 00-57 that revised the Customs Regulations relating to the filing of petitions in penalty, liquidated damages, and seizure cases. Parts 171 and 172 of the Customs Regulations were recrafted in that document to include petition processing in seizure and unsecured penalty cases under part 171 and liquidated damages and secured penalty petition processing under part 172. It has come to Customs attention that the amendatory instructions regarding appendix C to part 171 set forth in that document inadvertently failed to remove a section and a note in the Appendix which were intended to be removed. Not removing the section resulted in the next section being redesignated incorrectly. Section I.H. and the note following section I.H. were intended to be removed, but were not, and section I.H. was incorrectly designated as section I.F. This document corrects these errors by removing section I.H. and the note following section I.H., and redesignating section I.I. as section I.F.

Correction of Publication

Accordingly, the publication on September 5, 2000, of the final rule (T.D. 00-57, 65 FR 53565) is corrected as follows:

1. On page 53578, in the third column, the fifth amending instruction is revised to read as follows:

Appendix C to Part 171 [Amended]

5. Appendix C to Part 171 is amended by removing the Note following section I.D., removing section I.E., redesignating section I.F. as section I.E., removing sections I.G. and I.H. and the NOTE following section I.H., and redesignating section I.I. as section I.F.

Dated: October 30, 2000.
Stuart P. Seidel,
Assistant Commissioner, Office of Regulations and Rulings.

[FR Doc. 00-28197 Filed 11-1-00; 8:45 am]

BILLING CODE 4820-02-P